DEPARTMENT OF TRANSPORTATION

Research and Special Programs Administration

49 CFR Part 171

[Docket No. RSPA-02-12064 (HM-232)]

RIN 2137-AD67

Hazardous Materials Security Plans; Information Collection Approval

AGENCY: Research and Special Programs Administration (RSPA), DOT.

ACTION: Final rule.

SUMMARY: This final rule announces Office of Management and Budget (OMB) approval of information collection request (ICR) OMB No. 2137-0612, “Hazardous Materials Security Plans”. This information collection has been approved by OMB until April 30, 2006. This final rule also makes appropriate revisions to regulations concerning the Paperwork Reduction Act to incorporate this new information collection approval under OMB Control No. 2137-0612.

DATES: The effective date of this final rule is June 20, 2003. This ICR expires on April 30, 2006.

FOR FURTHER INFORMATION CONTACT: Deborah Boothe or T. Glenn Foster, Office of Hazardous Materials Standards (DHM-10), Research and Special Programs Administration, Room 8422, 400 Seventh Street, SW., Washington, DC 20590-0001, Telephone (202) 366-8553.

ADDRESSES: Requests for a copy of an information collection should be directed to Deborah Boothe or T. Glenn Foster, Office of Hazardous Materials Standards (DHM-10), Research and Special Programs Administration, Room 8422, 400 Seventh Street, SW., Washington, DC 20590-0001.

SUPPLEMENTARY INFORMATION:

I. Background

On March 25, 2003, the Research and Special Programs Administration (RSPA, we) published a final rule to enhance the security of hazardous materials transported in commerce (68 FR 14510). In this final rule, shippers and carriers of certain highly hazardous materials must develop and implement security plans. In addition, all shippers and carriers of hazardous materials must assure that their employee training includes a security component. The effective date of this final rule is March 25, 2003.

On April 30, 2003, OMB approved information collection for the development of and maintenance of security plans, OMB No. 2137-0612, “Hazardous Materials Security Plans”, until April 30, 2006. Because OMB approved the information collection after publication of the March 25, 2003 final rule, we are announcing the OMB approval and incorporating this new information collection approval into § 171.6, “Control numbers under the Paperwork Reduction Act.”, under OMB Control No 2137-0612.

OMB regulations (5 CFR 1320) implementing provisions of the Paperwork Reduction Act of 1995 (Pub. L. 104-13) require that interested members of the public and affected agencies have an opportunity to comment on information collection and recordkeeping activities (see 5 CFR 1320.8(s)) and specify that no person is required to respond to an information collection unless it displays a valid OMB control number. In accordance with the Paperwork Reduction Act of 1995, RSPA has received OMB approval of the following ICR and § 171.6(b)(2) is revised by incorporating the following information collection:

OMB Control Number: 2137-0612.

Title: Hazardous Materials Security Plans.

This information collection approval expires on April 30, 2006. This information collection request was approved by OMB on April 30, 2003.

II. Summary of Regulatory Changes

Section 171.6

We are revising the table in paragraph (b)(2) to incorporate a new information collection, OMB No. 2137-0612, “Hazardous Materials Security Plans,” and the affected sections, which include a new part 172, subpart I—Security Plans and §§ 172.800, 172.802, and 172.804.

III. Rulemaking Analyses and Notices

A. Executive Order 12866 and DOT Regulatory Policies and Procedures

This final rule is not considered a significant regulatory action under section 3(f) of Executive Order 12866 and, therefore, was not reviewed by the Office of Management and Budget. This rule is not significant under the Regulatory Policies and Procedures of the Department of Transportation (44 FR 11034). Because of the minimal economic impact of this rule, preparation of a regulatory impact analysis or a regulatory evaluation is not warranted.

B. Executive Order 13132

This final rule has been analyzed in accordance with the principles and criteria in Executive Order 13132 (“Federalism”). This final rule does not propose any regulation that: (1) Has substantial direct effects on the States, the relationship between the national government and the States, or the distribution of power and responsibilities among the various levels of government; (2) imposes substantial direct compliance costs on State and local governments; or (3) preempts state law.

RSPA is not aware of any State, local, or Indian tribe requirements that would be preempted by correcting editorial errors and making minor regulatory changes. This final rule does not have sufficient federalism impacts to warrant the preparation of a federalism assessment.

C. Executive Order 13175

This final rule has been analyzed in accordance with the principles and criteria contained in Executive Order 13175 (“Consultation and Coordination with Indian Tribal Governments”). Because this rule does not have tribal implications and does not impose substantial direct compliance costs, the funding and consultation requirements of Executive Order 13175 do not apply.

D. Regulatory Flexibility Act

I certify that this final rule will not have a significant economic impact on a substantial number of small entities. This rule makes minor editorial changes which will not impose any new requirements on persons subject to the HMR; thus, there are no direct or indirect adverse economic impacts for small units of government, businesses or other organizations.

E. Unfunded Mandates Reform Act of 1995

This final rule does not impose unfunded mandates under the Unfunded Mandates Reform Act of 1995. It does not result in costs of $100 million or more to either State, local, or tribal governments, in the aggregate, or to the private sector, and is the least burdensome alternative that achieves the objective of the rule.

F. Paperwork Reduction Act

There are no new information collection requirements in this final rule. This final rule announces the approval of information collection OMB No. 2137-0612, “Hazardous Materials Security Plans,” and incorporates this new OMB Control Number, Title, and Affected Sections into the Section 171.6 (b)(2) table in the HMR.

G. Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

List of Subjects in 49 CFR part 171

Exports, Hazardous materials transportation, Hazardous waste, Imports , Incorporation by reference, Reporting and recordkeeping requirements.

In consideration of the foregoing, 49 CFR Chapter I is amended as follows:

PART 171—GENERAL INFORMATION, REGULATIONS, AND DEFINITIONS

1. The authority citation for part 171 continues to read as follows:

Authority: 49 U.S.C. 5101-5127; 49 CFR 1.53.

2. In § 171.6, the table in paragraph (b)(2) is revised to add a new entry “OMB No. 2137-0612” in numeric order, to read as follows:

§ 171.6 Control numbers under the Paperwork Reduction Act.

* * * * *

(b) * * *

Current OMB Control No. | Title | Title 49 CFR part or section where identified and described
* * * * * * *
2137-0612 | Hazardous Materials Security Plans | Part 172, Subpart I, §§ 172.800, 172.802, 172.804.

Issued in Washington, DC, on May 9, 2003, under authority delegated in 49 CFR part 1.
Samuel G. Bonasso,
Acting Administrator.

[FR Doc. 03-13238 Filed 5-27-03; 8:45 am]

BILLING CODE 4910-60-P